DEPARTMENT OF COMMERCE

Economic Development Administration

Proposed Information Collection; Comment Request; Government Performance and Results Act Data Collection

AGENCY: Economic Development Administration, Department of Commerce.

ACTION: Notice.

SUMMARY: The Economic Development Administration (EDA or the Agency), Department of Commerce, as part of its continuing effort to reduce paperwork and respondent burden, invites the general public and other Federal agencies to comment on a proposed extension of an information collection request approved through November 30, 2017, as required by the Paperwork Reduction Act of 1995.

DATES: Written comments must be submitted on or before July 17, 2017.

ADDRESSES: Direct all written comments to Jennifer Jessup, Departmental Paperwork Clearance Officer, Department of Commerce, Room 6625, 14th and Constitution Avenue NW., Washington, DC 20230 (or via email at PRAcomments@doc.gov).

FOR FURTHER INFORMATION CONTACT: Requests for additional information or copies of the information collection instrument and instructions should be directed to Ksenia E. Shadrina, Program Analyst, Performance and National Programs Division, Room 71030, Economic Development Administration, Washington, DC 20230, or via email at kshadrina@eda.gov or telephone at (202) 482-2843.

SUPPLEMENTARY INFORMATION:

I. Abstract

The mission of EDA is to lead the federal economic development agenda by promoting innovation and competitiveness, preparing American regions for growth and success in the worldwide economy. EDA accomplishes this mission by helping our partners across the nation, including states, regions, and communities create wealth and minimize poverty by promoting a favorable business environment to attract private capital investment and jobs through world-class capacity building, planning, infrastructure, research grants, and strategic initiatives. Further information on EDA's program and grant opportunities can be found at www.eda.gov.

In order to effectively administer and monitor its economic development assistance programs, and to comply with the requirements of the Government Performance and Results Act of 1993 (GPRA; Pub. L. 103-62), EDA must collect specific data from its grant recipients to report on the Agency's performance in meeting its stated goals and objectives. The purpose of this notice is to seek comments from the public and other Federal agencies on a request for an extension of EDA's currently approved GPRA collection forms which are scheduled to expire on November 30, 2017.

II. Method of Collection

EDA collects performance data through a series of four program specific forms (information on EDA's Public Works, Economic Adjustment Assistance, and Revolving Loan programs are collected via form ED-915; information from Economic Development Districts and Indian Tribes are collected via the ED-916; University Centers are required to report on the ED-917; and, Trade Adjustment Assistance Centers are required to fill out a ED-918) that ask respondents to report on items such as the number of jobs created and retained as well as the private investment generated per EDA investment. Respondents are required to submit the applicable form to the EDA Regional Office for compilation and transmission to EDA headquarters.

As a part of this renewal process, EDA plans to make minor clarifying edits to some of the questions on the ED-916, ED-917, and ED-918 and to the instruction sections of the ED-915, ED-916, and ED-917. None of these minor edits are expected to increase the time burden on the respondent nor do the modifications change the type or amount of collected information.

III. Data

Office of Management and Budget (OMB) Control Number: 0610-0098.

Form Number(s): ED-915, ED-916, ED-917, and ED-918.

Type of Review: Renewal of currently approved forms.

Affected Public: EDA-funded grantees: State, local and tribal governments; community organizations; not-for-profit organizations.

Estimated Number of Respondents: 1,530.

Estimated Time per Response: 7 Hours 0 Minutes.

Estimated Total Annual Burden Hours: 11,131 Hours.

Estimated Total Annual Cost to Public: $113,220.

IV. Request for Comments

Pursuant to section 3506(c)(2)(A) of the PRA, comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and may be included in the request for OMB approval of this information collection; they also will become a matter of public record.

Sheleen Dumas,
Departmental PRA Lead, Office of the Chief Information Officer.

[FR Doc. 2017-09988 Filed 5-16-17; 8:45 am]

BILLING CODE 3510-24-P